DEPARTMENT OF TRANSPORTATION

National Highway Traffic Safety Administration

[U.S. DOT Docket Number NHTSA-2004-17067]

Reports, Forms, and Recordkeeping Requirements

AGENCY: National Highway Traffic Safety Administration (NHTSA), Department of Transportation.

ACTION: Request for public comment on an extension of a currently approved collection.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

EFFECTIVE DATE: Comments must be received on or before May 3, 2004.

ADDRESSES: Comments must refer to the docket notice number cited at the beginning of this notice and be submitted to U.S. Department of Transportation Dockets, Room PL-401, 400 Seventh Street, SW., Washington, DC 20590. Please identify the proposed collection of information for which a comment is provided, by referencing its OMB Control Number. It is requested, but not required, that 2 copies of the comments be provided. The Docket Section is open on weekdays from 10 a.m. to 5 p.m.

FOR FURTHER INFORMATION CONTACT: Complete copies of each request for collection of information may be obtained at no charge from Ms. Henrietta L. Spinner, NHTSA, 400 Seventh Street, SW., Room 5320, NVS-132, Washington, DC 20590. Ms. Spinner's telephone number is (202) 366-0846. Please identify the relevant collection of information by referring to its OMB Control Number.

SUPPLEMENTARY INFORMATION: Under the Paperwork Reduction Act of 1995, before an agency submits a proposed collection of information to OMB for approval, it must publish a document in the Federal Register providing a 60-day comment period and otherwise consult with members of the public and affected agencies concerning each proposed collection of information. OMB has promulgated regulations describing what must be included in such a document. Under OMB's regulation (at 5 CFR 1320.8 (d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comments on the following proposed collection of information:

Title: 49 CFR 537—Automotive Fuel Economy Reports.

OMB Control Number: 2127-0019.

Affected Public: Business or other for-profit.

Form Number: This collection of information uses no standard form.

Abstract: Section 32907 of Chapter 329 of Title 49 of the United States Code requires each automobile manufacturer (other than those low volume manufacturers which were granted an alternative fuel economy standard under section 32902 (d)) to submit semi-annual reports to the agency relating to that manufacturer's efforts to comply with average fuel economy standards. One report is due during the 30-day period preceding the beginning of each model year (the “pre-model year report”) and the other is due during the 30-day period beginning on the 180th day of the model year (the “mid-model year report”).

Section 32907 (a)(1) of Chapter 329 provides that each report must contain a statement as to whether the manufacturer will comply with average fuel economy standards for that year, a plan describing the steps the manufacturer took or will take to comply with the standards, and any other information the agency may require. Whenever a manufacturer determines that a plan it has submitted in one of its reports is no longer adequate to assure compliance, it must submit a revised plan.

Estimated Annual Burden: 3,300 hours.

Number of Respondents: 17.*

*Note: NHTSA anticipates a total of 40 responses may be filed by the 17 respondents, which most respondents will respond semiannually; however, a few respondents may respond thrice with amendments.

Issued on: February 27, 2004.
Claude H. Harris,
Director, Office of Crash Avoidance Standards.

[FR Doc. 04-4771 Filed 3-2-04; 8:45 am]

BILLING CODE 4910-59-P